DEPARTMENT OF TRANSPORTATION

Federal Aviation Administration

14 CFR Part 39

[Docket No. FAA-2024-1691; Project Identifier MCAI-2023-01269-E; Amendment 39-22847; AD 2024-19-05]

RIN 2120-AA64

Airworthiness Directives; Safran Helicopter Engines, S.A. (Type Certificate Previously Held by Turbomeca, S.A.) Engines

AGENCY: Federal Aviation Administration (FAA), DOT.

ACTION: Final rule.

SUMMARY: The FAA is adopting a new airworthiness directive (AD) for all Safran Helicopter Engines, S.A. (Safran) (type certificate previously held by Turbomeca, S.A.) Model Makila 1A, Makila 1A1, and Makila 1A2 engines. This AD is prompted by a determination that the accumulated service life of certain critical parts was underestimated. This AD requires determining the recalculated service life of certain critical parts, replacing if necessary, and also specifies conditions for installing the parts, as specified in a European Union Aviation Safety Agency (EASA) AD, which is incorporated by reference. The FAA is issuing this AD to address the unsafe condition on these products.

DATES: This AD is effective November 26, 2024.

The Director of the Federal Register approved the incorporation by reference of a certain publication listed in this AD as of November 26, 2024.

ADDRESSES:

AD Docket: You may examine the AD docket at regulations.gov under Docket No.FAA-2024-1691; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material identified in this AD, contact EASA, Konrad-Adenauer-Ufer 3, 50668 Cologne, Germany; phone: +49 221 8999 000; email: ADs@easa.europa.eu; website: ad.easa.europa.eu. It is also available at regulations.gov under Docket No. FAA-2024-1691.

• You may view this material at the FAA, Airworthiness Products Section, Operational Safety Branch, 1200 District Avenue, Burlington, MA 01803. For information on the availability of this material at the FAA, call (817) 222-5110. It is also available at regulations.gov under Docket No. FAA-2024-1691.

FOR FURTHER INFORMATION CONTACT: David Bergeron, Aviation Safety Engineer, FAA, 1600 Stewart Avenue, Suite 410, Westbury, NY 11590; phone: (860) 386-1805; email: David.J.Bergeron@faa.gov.

SUPPLEMENTARY INFORMATION:

Background

The FAA issued a notice of proposed rulemaking (NPRM) to amend 14 CFR part 39 by adding an AD that would apply to all Safran Model Makila 1A, Makila 1A1, and Makila 1A2 engines. The NPRM published in the Federal Register on June 20, 2024 (89 FR 51858). The NPRM was prompted by EASA AD 2023-0218, dated December 19, 2023 (EASA AD 2023-0218) (also referred to as the MCAI), issued by EASA, which is the Technical Agent for the Member States of the European Union. The MCAI states that it has been determined that the accumulated service life of certain critical parts was underestimated. To address this potential unsafe condition, the manufacturer published service information that identifies the affected parts and provides instructions for recalculating the service life and replacing the affected parts. The MCAI specifies determining the recalculated service life of the affected parts and replacing if necessary. The MCAI also specifies conditions for installing the affected parts. This unsafe condition, if not addressed, could lead to operation of the affected parts beyond the part life, which could cause the failure of affected parts, possibly resulting in uncontained debris release with consequent damage to the helicopter and reduced control of the helicopter.

In the NPRM, the FAA proposed to require determining the recalculated service life of certain critical parts, replacing the parts if necessary, and specified conditions for installing the parts. The FAA is issuing this AD to address the unsafe condition on these products.

You may examine the MCAI in the AD docket at regulations.gov under Docket No. FAA-2024-1691.

Discussion of Final Airworthiness Directive

Comments

The FAA received no comments on the NPRM or on the determination of the costs.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. Except for minor editorial changes, this AD is adopted as proposed in the NPRM.

Material Incorporated by Reference Under 1 CFR Part 51

The FAA reviewed EASA AD 2023-0218, which specifies determining the recalculated service life of affected parts and replacing the affected parts, if necessary. EASA AD 2023-0218 also specifies conditions for installing the affected parts. This material is reasonably available because the interested parties have access to it through their normal course of business or by the means identified in the ADDRESSES section.

Costs of Compliance

The FAA estimates that this AD affects 0 engines installed on helicopters of U.S. registry.

The FAA estimates the following costs to comply with this AD:

Estimated Costs
Action | Labor cost | Parts cost | Cost per product | Cost on U.S. operators
Recalculate cycle lives | 2 work-hours × $85 per hour = $170 | $0 | $170 | $0
Replace axial wheel 1 | 8 work-hours × $85 per hour = $680 | 118,703 | 119,383 | 0
Replace axial wheel 2 | 8 work-hours × $85 per hour = $680 | 74,023 | 74,703 | 0
Replace axial wheel 3 | 8 work-hours × $85 per hour = $680 | 86,939 | 87,619 | 0
Replace centrifugal impeller | 8 work-hours × $85 per hour = $680 | 164,583 | 165,263 | 0
Replace high-pressure turbine (HPT) disk 1 | 8 work-hours × $85 per hour = $680 | 97,800 | 98,480 | 0
Replace HPT disk 2 | 8 work-hours × $85 per hour = $680 | 92,284 | 92,964 | 0
Replace injection wheel | 8 work-hours × $85 per hour = $680 | 76,799 | 77,479 | 0

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-19-05 Safran Helicopter Engines, S.A. (Type Certificate Previously Held by Turbomeca, S.A.): Amendment 39-22847; Docket No. FAA-2024-1691; Project Identifier MCAI-2023-01269-E.

(a) Effective Date

This airworthiness directive (AD) is effective November 26, 2024.

(b) Affected ADs

None.

(c) Applicability

This AD applies to Safran Helicopter Engines, S.A. (type certificate previously held by Turbomeca, S.A.) Model Makila 1A, Makila 1A1, and Makila 1A2 engines.

(d) Subject

Joint Aircraft System Component (JASC) Code 7200, Engine (Turbine/Turboprop).

(e) Unsafe Condition

This AD was prompted by a determination that the accumulated service life of certain critical parts was underestimated. The FAA is issuing this AD to prevent failure of critical parts. The unsafe condition, if not addressed, could result in uncontained release of high-energy debris from the engine, with consequent damage to the engine, damage to the helicopter, and reduced control of the helicopter.

(f) Compliance

Comply with this AD within the compliance times specified, unless already done.

(g) Required Actions

Except as specified in paragraph (h) and (i) of this AD: Comply with all required actions and compliance times specified in, and in accordance with, European Union Aviation Safety Agency (EASA) AD 2023-0218, dated December 19, 2023 (EASA AD 2023-0218).

(h) Exceptions to EASA AD 2023-0218

(1) Where EASA AD 2023-0218 refers to its effective date, this AD requires using the effective date of this AD.

(2) Where the service information referenced in EASA AD 2023-0218 specifies to return certain parts to the manufacturer, this AD requires removing those parts from service.

(3) This AD does not adopt the Remarks paragraph of EASA AD 2023-0218.

(4) Where the service information referenced in EASA AD 2023-0218 specifies contacting the manufacturer for additional cycles for certain parts, this AD requires contacting the Manager, International Validation Branch, FAA, for additional cycles for certain parts, if those parts are installed on aircraft of U.S. Registry.

(i) No Reporting Requirement

Although the service information referenced in EASA AD 2023-0218 specifies to submit certain information to the manufacturer, this AD does not include that requirement.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact David Bergeron, Aviation Safety Engineer, FAA, 1600 Stewart Avenue, Suite 410, Westbury, NY 11590; phone: (860) 386-1805; email: david.j.bergeron@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2023-0218, dated December 19, 2023.

(ii) [Reserved]

(3) For EASA material identified in this AD, contact EASA, Konrad-Adenauer-Ufer 3, 50668 Cologne, Germany; phone: +49 221 8999 000; email: ADs@easa.europa.eu; website: ad.easa.europa.eu. You may find this EASA AD on the EASA website at ad.easa.europa.eu.

(4) You may view this material at the FAA, Airworthiness Products Section, Operational Safety Branch, 1200 District Avenue, Burlington, MA 01803. For information on the availability of this material at the FAA, call (817) 222-5110.

(5) You may view this material at the National Archives and Records Administration (NARA). For information on the availability of this material at NARA, visit www.archives.gov/federal-register/cfr/ibr-locations or email fr.inspection@nara.gov.

Issued on September 13, 2024.
Steven W. Thompson,
Acting Deputy Director, Compliance & Airworthiness Division, Aircraft Certification Service.

[FR Doc. 2024-24365 Filed 10-21-24; 8:45 am]

BILLING CODE 4910-13-P